DEPARTMENT OF LABOR

Office of the Secretary

Submission for OMB Review; Comment Request

May 22, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 219-8904 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Waiver of Child Labor Provisions for Agricultural Employment of 10 and 11 Year Old Minors in Hand Harvesting of Short Season Crops—29 CFR Part 575.

OMB Number: 1215-0120.

Affected Public: Farms and Individuals or households.

Frequency: On Occasion.

Number of Respondents: 1.

Number of Annual Responses: 1.

Estimated Time Per Response: 4 hours.

Total Burden Hours: 4.

Total Annualized Capital/Startup Costs: $0.

Total Annual Costs (operating/maintaining systems or purchasing services): $0.

Description: Section 13(c)(4) of the Fair Labor Standards Act (FLSA), 29 U.S.C. 201 et seq., authorizes the Secretary of Labor to grant a waiver of the child labor provisions of the FLSA for the agricultural employment of 10 and 11 year old minors in the hand harvesting of short season crops if specific requirements are met. The Act requires that employers who are granted such waivers keep on file a signed statement of the parent or person standing in the place of the parent of each 10 and 11 year old minor, consenting to their employment, along with a record of the name and address of the school in which the minor is enrolled.

The application for a waiver and supporting data is used by the Department of Labor to determine whether the statutory requirements and conditions for granting an exemption have been met which would permit the applicants to employ 10 and 11 year olds to hand harvest short season crops. Without this information, the Department of Labor would not have the statutory authority to grant a waiver.

Ira L. Mills,
Departmental Clearance Officer.

[FR Doc. 01-15046 Filed 6-13-01; 8:45 am]

BILLING CODE 4510-27-M